DEPARTMENT OF TRANSPORTATION

Federal Aviation Administration

14 CFR Part 71

[Docket No. FAA-2026-1851; Airspace Docket No. 25-AWA-9]

RIN 2120-AA66

Amendment of Class C Airspace; South Bend, Michiana Regional Airport, South Bend, IN

AGENCY: Federal Aviation Administration (FAA), DOT.

ACTION: Final rule.

SUMMARY: This action amends the Class C airspace description for the former “South Bend, Michiana Regional Airport, IN”, to update the airport name to the “South Bend International Airport” and the airport's geographic coordinates to match the FAA's National Airspace System Resources (NASR) database. Additionally, this action further amends the airspace description by updating the header format. This action does not change the boundaries, altitudes, or operating requirements of the Class C airspace area.

DATES: Effective date 0901 UTC, May 14, 2026. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the South Bend, Michiana Regional Airport, South Bend, IN, Class C airspace description.

History

During a review of the Class C airspace description for the “South Bend, Michiana Regional Airport, IN”, the FAA identified the need to update the airport name to the “South Bend International Airport” and update the geographic coordinates to match what is currently published in the NASR database. Additionally, the FAA identified a need to update the airspace description header format to match current formatting requirements and update the publication name “Airport/Facility Directory,” which is now referred to as the “Chart Supplement”.

Incorporation by Reference

Class C airspace areas are published in paragraph 4000 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by updating the Class C airspace description for the former “South Bend, Michiana Regional Airport, IN”, as published in FAA Order JO 7400.11K, Airspace Designations and Reporting Points. The airport name “South Bend, Michiana Regional Airport” is changed to “South Bend International Airport” to match the Airport Master Record database. Further, to comply with current FAA airspace description formatting standards, the airport name is removed from the first line in the text header of the description, leaving just the city and state location of the airport.

Additionally, the geographic coordinates for the South Bend, Michiana Regional Airport is updated from “lat. 41°42′26″ N, long. 86°19′04″ W” to “lat. 41°42′30″ N, long. 86°19′02″ W” to match what is currently published in the NASR database. These are nominal coordinate updates that do not result in regulatorily significant changes to airspace boundaries. Lastly, the FAA is updating the publication name “Airport Facility Directory,” which is now referred to as the “Chart Supplement.”

Good Cause for Bypassing Notice and Comment

The Administrative Procedure Act (APA) authorizes agencies to dispense with ordinary notice and comment requirements when the agency for “good cause” finds that those procedures are “impracticable, unnecessary, or contrary to the public interest.” 5 U.S.C. 553(b)(B). This action will not impose any additional substantive restrictions or requirements on the persons affected by these regulations. As mentioned, the geographic coordinate updates are nominal and do not materially impact airspace boundaries. Accordingly, these changes are administrative in nature. Therefore, the FAA finds good cause that notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the “South Bend, Michiana Regional Airport, IN”, Class C airspace description to update the airport name, geographic coordinates, and title of the Chart Supplement qualifies for categorical exclusion under the National Environmental Policy Act (42 U.S.C. 4321, et seq.), and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with the FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11K, Airspace Designations and Reporting Points, dated August 4, 2025, effective September 15, 2025, is amended as follows:

Paragraph 4000 Class C Airspace.

* * * * *

AGL IN C South Bend, IN

South Bend International Airport, IN

(Lat. 41°42′30″ N, long. 86°19′02″ W)

Chain-O-Lakes Airport

(Lat. 41°39′45″ N, long. 86°21′15″ W)

That airspace extending upward from the surface to and including 4,800 feet MSL within a 5-mile radius of the South Bend International Airport, excluding that airspace within a 1-mile radius of the Chain-O-Lakes Airport and excluding that airspace 1 mile either side of the 214° bearing from Chain-O-Lakes Airport to the 5-mile radius from South Bend International Airport; and that airspace extending upward from 2,000 feet MSL to and including 4,800 feet MSL within a 10-mile radius of South Bend International Airport from the 160° bearing from the South Bend International Airport clockwise to the 120° bearing from the airport and that airspace extending upward from 2,500 feet MSL to and including 4,800 feet MSL from the 120° bearing from the airport clockwise to the 160° bearing from the airport. This Class C airspace area is effective during the specific days and times of the South Bend Tower and Approach Control Facility as established in advance by a Notice to Airmen. The effective dates and times will thereafter be continuously published in the Chart Supplement.

* * * * *

Issued in Washington, DC, on February 17, 2026.
Alex W. Nelson,
Manager, Rules and Regulations Group.

[FR Doc. 2026-03251 Filed 2-18-26; 8:45 am]

BILLING CODE 4910-13-P